DEPARTMENT OF LABOR

Occupational Safety and Health Administration

29 CFR Part 1926

[Docket No. S-030]

RIN 1218-AC01

Safety Standards for Cranes and Derricks

AGENCY: Occupational Safety and Health Administration (OSHA), U.S. Department of Labor

ACTION: Notice of final membership list for Negotiated Rulemaking Advisory Committee.

SUMMARY: The Occupational Safety and Health Administration (OSHA) is issuing a final membership list of the Crane and Derrick Negotiated Rulemaking Advisory Committee (C-DAC).

COMMENTS: Written comments on the committee's proceedings may be submitted to the Crane and Derrick Negotiated Rulemaking Advisory Committee, Docket No. S-030, including additional materials and attachments, in any of three ways: hard copy, facsimile and electronic transmission.

ADDRESSES: Mail: You must submit three copies of your comments on committee proceedings and attachments to the OSHA Docket Office, Docket No. S-030, U.S. Department of Labor, Room N-2625, 200 Constitution Avenue, NW., Washington, DC 20210. The OSHA Docket Office and Department of Labor hours of operation are 8:15 a.m. to 4:45 p.m. Note that receipt of comments submitted by mail may be delayed by several weeks.

Facsimile (FAX): If your comments, including any attachments, are 10 pages or fewer, you may fax them to the OSHA Docket Office, Docket No. S-030, at (202) 693-1648.

Electronic transmission: You may submit comments through the Internet at http://ecomments.osha.gov.

Please note that you cannot attach materials, such as studies or journal articles, to electronic comments. If you have additional materials, you must submit three copies of them to the OSHA Docket Office at the address above. The additional materials must clearly identify your electronic comments by name, date, subject and docket number so we can attach the materials to your electronic comments.

All comments and submissions will be available for inspection and copying at the OSHA Docket Office at the address above. Comments and submissions posted on OSHA's Webpage are available at www.osha.gov. Please do not include personal information (such as social security numbers and birth dates) in submissions. Contact the OSHA Docket Office at (202)-693-2350 for information about materials not available through the OSHA Webpage and for assistance in using the Webpage to locate docket submissions.

FOR FURTHER INFORMATION CONTACT: For general information and press inquiries, contact Ms. Bonnie Friedman, OSHA, Office of Public Affairs, Room N-3647, U.S. Department of Labor, 200 Constitution Avenue, NW., Washington, DC 20210; telephone (202) 693-1900. For technical inquiries contact Mr. Michael Buchet, OSHA, Office of Construction Standards and Guidance, Room N-3468, U.S. Department of Labor, 200 Constitution Avenue, NW., Washington, DC 20210; telephone (202) 693-2020. For additional copies of this Federal Register notice, contact OSHA, Office of Publications, Room N-3101, U.S. Department of Labor, 200 Constitution Avenue, NW, Washington, DC 20210; telephone (202) 693-1888. Electronic copies of this Federal Register notice, as well as news releases and other relevant documents, are available at OSHA's web page on the Internet at http://www.osha.gov.

The C-DAC Facilitator, Susan Podziba, can be reached at Susan Podziba and Associates, 21 Orchard Road, Brookline, MA 02445; Telephone (617) 738-5320, Fax (617) 738-6911.

SUPPLEMENTARY INFORMATION:

Table of Contents

I. Background

II. Discussion of Comments on the Proposed Membership List

III. Final Committee Membership List

IV. Procedure for Adding and Replacing Members

V. Anticipated Key Issues for Negotiation

VI. Authority

I. Background

On July 16, 2002, OSHA published a Federal Register notice of intent to establish a negotiated rulemaking committee for cranes and derricks (volume 67 of the Federal Register, page 46612). The notice requested comments on the appropriateness of using negotiated rulemaking to develop a proposed rule for cranes and derricks used in construction and requested nominations for membership on the Committee. In addition, the notice described the negotiated rulemaking process and identified some key issues anticipated to be addressed in the negotiation.

Fifty-five nominations for membership on the Committee and several comments were received during the comment period. There was broad support for using negotiated rulemaking to update the standard and OSHA decided to go forward with the negotiated rulemaking process.

II. Discussion of Comments on the Proposed Membership List

The Agency published a proposed membership list and requested public comment (68 FR 9036, February 27, 2003). In response to the notice of proposed members, OSHA received 29 sets of comments. Of the comments received, 13 supported OSHA's proposed member list and 16 asked for individuals to be added to the list. Below is a discussion of the comments that recommended adding members to the committee.

Three commenters (Exs. 6-1, 7-7 and 7-13) indicated that there should be an additional representative from the mobile crane manufacturing industry. In their view there was an imbalance in the proposed committee list with respect to the number of manufacturing representatives relative to the number of user representatives. The proposed committee included a representative from Manitowoc Cranes, Inc. OSHA agrees with these commenters and has decided to add Bernie McGrew of Link-Belt Construction Equipment Company to the Committee to provide additional technical expertise on the design, manufacturing and testing of mobile cranes.

One industry commenter (Ex. 7-12) suggested that the committee needs a representative from the Department of Defense and in particular the Navy Nuclear Crane Program. The Agency, however, is not aware of aspects of cranes used by the Navy that cannot be addressed by the proposed members of the Committee. Furthermore, no comments were received from the Navy objecting to the proposed membership list.

One commenter (Ex. 7-9) asserted that the proposed committee did not represent hydraulic telescoping boom cranes. However, since Manitowoc owns Grove, a major manufacturer of hydraulic cranes, their member will represent that interest. Also, Link-Belt manufacturers hydraulic cranes, so with the addition of Mr. McGrew, the interests of manufacturers of hydraulic telescoping boom cranes will be represented.

That commenter also asserted that the committee should have a representative of an “independent” trainer. The proposed list included David Ritchie of The St. Paul Companies, who has extensive experience as a trainer. The commenter did not explain why the interest of trainers can only be represented by an independent trainer. Accordingly, the Agency concludes that the trainer interest is adequately represented.

One commenter (Ex. 7-4) stated that cranes and derricks are used extensively in marine construction (bridge, dock, outfall, pipeline and dredging work) and that the marine construction environment is very different from a landside environment. He asked that a representative of the marine construction industry be added. He also noted that, “in lieu of appointing a marine construction representative to the committee, we request that OSHA provide some vehicle to ensure that marine construction interests may offer valuable input to the negotiated rulemaking committee. * * *”

OSHA believes that the marine construction interest can effectively form coalitions with other committee members. In addition, the marine construction interest will have ample opportunities to present information to and work with the C-DAC committee as issues relating to that type of work arise. This type of information can be provided at the public meetings of the full committee and in committee workgroups.

Seven commenters (Exs. 6-7, 6-9, 6-10, 6-11, 6-13, 6-14 and 6-15) objected to the composition of the committee stating that the Specialized Carriers & Rigging Association's (SC&RA) nominee should be added to the committee. The SC&RA is an association with a large, broad-based membership of crane-related businesses. The comments reflect a cross-section of industry support for including the SC&RA nominee, Doug Williams of Buckner Heavylift Cranes. The Agency has decided to add Mr. Williams as a member of the committee.

One commenter (Ex. 6-6) stated that the proposed committee did not have sufficient representation from “public entities;” it appears from the context of the comment that the commenter is referring to industry consensus groups. The Agency believes that the final membership list represents a broad cross-section of the industry. The commenter has not demonstrated why the interests of the individuals who serve on consensus groups, or the consensus groups themselves, would be unable to form coalitions with one or more of the named members.

One commenter (Ex. 6-5) suggested adding a member to the committee to represent manufacturers of specialized safety equipment and devices, such as equipment used to warn those in the vicinity of the crane or to detect hazards. Mr. Means was named to the committee to represent the interests of crane equipment suppliers. The commenter has not indicated why manufacturers of safety devices cannot form a coalition with Mr. Means or others.

A commenter (Ex. 6-4) recommended the addition of a member to represent the outdoor advertising industry. The commenter stated that the location, purpose and dimension of the work environments involved in outdoor advertising create unique challenges in the area of workplace safety. In addition, the commenter noted that work zone control and operations near electric power lines are issues that the outdoor advertising industry has extensive and unique experience with.

OSHA agrees that outdoor advertising is a unique type of construction activity that uses specialized crane equipment. The Agency believes that this interest is significant enough to add a member to the committee and, therefore, is adding Stephen Charman of Viacom Outdoor Group, Inc. to the committee to provide expertise on the use of cranes in the construction of billboards.

The Agency has hired Susan Podziba as Facilitator for the negotiated rulemaking Committee. The primary functions of the Facilitator will be to chair the meetings of the Committee in an impartial manner and assist the members of the Committee in conducting discussions and negotiations.

III. Final Committee Membership List

The final C-DAC membership list is comprised of the 23 individuals listed below:

Manufacturers and Suppliers

Michael Brunet, Manitowoc Cranes, Inc., 2401 S. 30th Street, Manitowoc, WI 54220

Peter Juhren, Morrow Equipment Company, L.L.C., 3218 Pringle Road SE., P.O. Box 3306, Salem, OR 97302

Bernie McGrew, Link-Belt Construction Equipment 2651 Palumbo Drive, P.O. Box 13600, Lexington, KY 40583

Larry Means, Means Engineering & Consulting, P.C., 44 South Carriage Drive, St. Joseph, MO 64506-1233

Lessors/Maintenance

William Smith, Maxim Crane Works 508-C DiGiulian Blvd., Glen Burnie, MD 21061

Users—Employers

Stephen P. Charman, Viacom Outdoor, Inc., 49-29 Maspeth Ave., Maspeth, NY 11378

Joseph Collins, Zachry Construction Corporation, P.O. Box 240130, San Antonio, TX 78224

Brian Murphy, Sundt Corporation, 4101 E Irvington Road, P.O. Box 26685, Tucson, AZ 85726

George R. “Chip” Pocock, C.P. Buckner Steel Erection, P.O. Box 598, Graham, NC 27253

Thomas “Craig” Steele, Schuck & Sons Construction Company, Inc., 8205 North 67th Avenue, Glendale, AZ 85302

Darlaine Taylor, Century Steel Erectors, Co., LP 210 Washington Avenue, Dravosburg, Pennsylvania 15034

William J. “Doc” Weaver, 8065 S. Overhill Circle, Salt Lake City, UT 84121

Robert Weiss, Cranes Inc. and A.J. McNulty & Company, Inc., 53-20 44th Street, Maspeth NY 11378

Doug Williams, Buckner Heavylift Cranes, P.O. Box 598, Graham, NC 27253

Stephen Wiltshire, Turner Construction Company, 6108 Waterman Drive, Fredericksburg, VA 22407

Users—Labor Organizations

Frank Migliaccio, International Association of Bridge, Structural, Ornamental and Reinforcing Iron Workers, 1750 New York Ave., NW., Suite 400, Washington, DC 20006

Dale Shoemaker, Carpenters International Training Center, 6801 Placid Street, Las Vegas, NV 89119

Operators—Labor Organizations

Stephen Brown, International Union of Operating Engineers, 1125 17th Street, NW., Washington, DC 20036

Emmett Russell, International Union of Operating Engineers 1125 17th Street, NW., Washington, DC 20036

Government/Public Entities

Noah Connell, U.S. Department of Labor/OSHA, 200 Constitution Ave., NW., Room N-3468, Washington, DC 20210

Training and Operator Testing

David Ritchie, The St. Paul Companies, P.O. Box 1419, Bastrop, TX 78602

Power Line Owners

Michael Hyland, American Public Power Association, 2301 M Street, NW., Washington, DC 20037

Insurance

Charles Yorio, Acordia, Two Gateway Center, Suite 1900, 603 Stanwix Street, Pittsburgh, PA 15222

IV. Procedure for Adding and Replacing Members

A. Additional Members

During the course of the Committee's negotiations, an unanticipated issue significantly affecting one or more unanticipated, unrepresented interests may arise. The Committee may decide that it is necessary for that issue to be addressed in the proposed rule. If so, the Agency will publish in the Federal Register a request for additional nominations to represent such interests. The Secretary or her designee may then select one or more additional representatives, who will be added as Committee members. The additional members will not be entitled to revisit any issue that has already been negotiated, unless the Committee agrees by consensus to do so.

B. Replacement Members

In the event an appointed member becomes unavailable or otherwise unable to serve, the Secretary or her designee will select a replacement member to represent the interest the original member had represented.

V. Anticipated Key Issues for Negotiation

OSHA anticipates that key issues to be addressed as part of these negotiations will include:

1. The identification/description of what constitutes “cranes and derricks” for purposes of determining the equipment that will be covered by the proposed rule.

2. Qualifications of individuals who operate, maintain, repair, assemble, and disassemble cranes and derricks.

3. Work zone control.

4. Crane operations near electric power lines.

5. Qualifications of signal-persons and communication systems and requirements.

6. Load capacity and control procedures.

7. Wire rope criteria.

8. Crane inspection/certification records.

9. Rigging procedures.

10. Requirements for fail-safe, warning, and other safety-related devices/technologies.

11. Verification criteria for the structural adequacy of crane components.

12. Stability testing requirements.

13. Blind pick procedures.

14. Hydraulic cranes.

Authority

This document was prepared under the direction of John L. Henshaw, Assistant Secretary of Labor for Occupational Safety and Health, U.S. Department of Labor, 200 Constitution Avenue, NW, Washington, D.C. 20210, pursuant to the Negotiated Rulemaking Act of 1990, (5 U.S.C. 561 et seq.), the Federal Advisory Committee Act (5 U.S.C. Appendix 2), the Occupational Safety and Health Act of 1970 (29 U.S.C. 651 et seq.), and Secretary of Labor's Order No. 5-2002 (67 FR 65008).

Signed at Washington, DC, this 9th day of June, 2003.
John L. Henshaw,
Assistant Secretary of Labor for Occupational Safety and Health.

[FR Doc. 03-16870 Filed 7-2-03; 8:45 am]

BILLING CODE 4510-26-U